DEPARTMENT OF HOMELAND SECURITY

Federal Emergency Management Agency

[Docket ID: FEMA-2014-0033; OMB No. 1660-0132]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 20, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3172, facsimile number (202) 212-4701, or email address FEMA-Information-Collections-Management@fema.dhs.gov.

SUPPLEMENTARY INFORMATION:

Collection of Information

Title: Level 1 Assessment Form, Level 3 Evaluation Form for Students, and Level 3 Evaluation Form for Supervisors.

Type of Information Collection: Revision of currently approved collection.

Form Titles and Numbers: FEMA Form 092-0-2, Level 1 Assessment Form; FEMA Form 092-0-2A, Level 3 Evaluation Form for Students; FEMA Form 092-0-2B, Level 3 Evaluation Form for Supervisors.

Abstract: The forms will be used to survey the Center for Domestic Preparedness (CDP) students enrolled in CDP courses and their supervisors. The surveys will collect information regarding quality of instruction, course material, and impact of training on their professional employment.

Affected Public: State, Local or Tribal Government.

Estimated Number of Respondents: 44,600.

Estimated Total Annual Burden Hours: 11,150.

Estimated Cost: 403,795.25.

Dated: March 13, 2015.
Terry Cochran,
Acting Director, Records Management Division, Mission Support, Federal Emergency Management Agency, Department of Homeland Security.

[FR Doc. 2015-06336 Filed 3-18-15; 8:45 am]

BILLING CODE 9111-53-P